ENVIRONMENTAL PROTECTION AGENCY

40 CFR Part 63

National Emission Standards for Hazardous Air Pollutants for Pharmaceuticals Production

CFR Correction

In Title 40 of the Code of Federal Regulations, Part 63 (§ 63.1200 to End), revised as of July 1, 2001, in § 63.1257, on page 134, redesignate paragraph (d)(4)(iii) as paragraph (d)(3)(iii), and on page 140, remove the second definition of ρ following equation 47.

[FR Doc. 02-55509 Filed 4-1-02; 8:45 am]

BILLING CODE 1505-01-D